DEPARTMENT OF HOMELAND SECURITY

Federal Emergency Management Agency

[Docket ID: FEMA-2010-0039]

Agency Information Collection Activities: Proposed Collection; Comment Request, 1660-0023; Effectiveness of a Community's Implementation of the NFIP Community Assistance Program CAC and CAV Reports

AGENCY: Federal Emergency Management Agency, DHS.

ACTION: Notice; 60-day notice and request for comments; revision of a currently approved information collection; OMB No. 1660-0023; FEMA Form 086-0-28, Community Visit Report; FEMA Form 086-0-29, Community Contact Report.

SUMMARY: The Federal Emergency Management Agency, as part of its continuing effort to reduce paperwork and respondent burden, invites the general public and other Federal agencies to take this opportunity to comment on a proposed revision of a currently approved information collection. In accordance with the Paperwork Reduction Act of 1995, this Notice seeks comments concerning the collection of information through the Community Visit Report and the Community Contact Report to assure that communities are achieving flood loss reduction objectives. The two key methods FEMA uses in determining community assistance needs to meet these objectives are through the Community Assistance Contact (CAC) and Community Assistance Visit (CAV), which serve to provide a systematic means of monitoring community National Flood Insurance Program (NFIP) compliance.

DATES: Comments must be submitted on or before September 20, 2010.

ADDRESSES: To avoid duplicate submissions to the docket, please use only one of the following means to submit comments:

(1) Online. Submit comments at http://www.regulations.gov under Docket ID FEMA-2010-0039. Follow the instructions for submitting comments.

(2) Mail. Submit written comments to Office of Chief Counsel, Regulation and Policy Team, DHS/FEMA, 500 C Street, SW., Room 835, Washington, DC 20472-3100.

(3) Facsimile. Submit comments to (703) 483-2999.

(4) E-mail. Submit comments to FEMA-POLICY@dhs.gov. Include Docket ID FEMA-2010-0039 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of http://www.regulations.gov.

FOR FURTHER INFORMATION CONTACT: Contact Rachel Sears, Program Specialist, Risk Reduction Division, Federal Emergency Management Agency, (202) 646-2977 for additional information. You may contact the Records Management Division for copies of the proposed collection of information at facsimile number (202) 646-3347 or e-mail address: FEMA-Information-Collections-Management@dhs.gov.

SUPPLEMENTARY INFORMATION: The Department of Homeland Security's Federal Emergency Management Agency (FEMA) administers the National Flood Insurance Program (NFIP) (codified at 42 U.S.C. 4001, et seq.), and a major objective of the NFIP is to assure that participating communities are achieving the flood loss reduction objectives through implementation and enforcement of adequate land use and control measures. FEMA's authority to collect information that will allow for the evaluation of how well communities are implementing their floodplain management programs is found at 42 U.S.C. 4022 and 42 U.S.C. 4102. Title 44 CFR 59.22 directs the respondent to submit evidence of the corrective and preventive measures taken to meet the flood loss reduction objectives.

Collection of Information

Title: Effectiveness of a Community's Implementation of the NFIP Community Assistance Program CAC and CAV Reports.

Type of Information Collection: Revision of a currently approved information collection.

OMB Number: 1660-0023.

Form Titles and Numbers: FEMA Form 086-0-28, Community Visit Report; FEMA Form 086-0-29, Community Contact Report.

Abstract: Through the use of a Community Assistance Contact (CAC) or Community Assistance Visit (CAV), FEMA can make a comprehensive assessment of a community's floodplain management program. Through this assessment, FEMA can assist the community to understand the NFIP's requirements, and implement effective flood loss reductions measures. Communities can achieve cost savings through flood mitigation actions by way of insurance premium discounts and reduced property damage.

Affected Public: State, local and Tribal Government.

Estimated Total Annual Burden Hours: 4,000 Hours.

Estimated Annualized Burden Hours and Costs
Type of respondent | Form name/form number | Number of respondents | Number of responses per respondent | Total number of responses | Avg. burden per response (in hours) | Total annual burden (in hours) | Avg. hourly wage rate | Total annual respondent cost
State, local or Tribal government | FEMA Form 086-0-28/Community Visit Report | 800 | 1 | 800 | 2 | 1,600 | $35.39 | $56,624
State, local or Tribal government | FEMA Form 086-0-28/Community Visit Report | 200 | 1 | 200 | 2 | 400 | 41.85 | 16,740
State, local or Tribal government | FEMA Form 086-0-29/Community Contact Report | 1,600 | 1 | 1,600 | 1 | 1,600 | 35.39 | 56,624
State, local or Tribal government | FEMA Form 086-0-29/Community Contact Report | 400 | 1 | 400 | 1 | 400 | 41.85 | 16,740
Total |  | 3,000 |  | 3,000 |  | 4,000 |  | 146,728

Estimated Cost: There is no capital, start-up, operation or maintenance cost associated with this collection.

Comments

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: July 16, 2010.
Tammi Hines,
Acting Director, Records Management Division, Mission Support Bureau, Federal Emergency Management Agency, Department of Homeland Security.

[FR Doc. 2010-17974 Filed 7-21-10; 8:45 am]

BILLING CODE 9110-12-P